DEPARTMENT OF LABOR

Employment and Training Administration

[TA-W-37,664 and NAFTA-3911]

Hutchinson Technology, Inc., Eau Claire, Wisconsin; Dismissal of Application for Reconsideration

Pursuant to 29 CFR 90.18(C) an application for administrative reconsideration was filed with the Director of the Division of Trade Adjustment Assistance for workers at Hutchinson Technology, Inc., Eau Claire, Wisconsin. The Application contained no new substantial information which would bear importantly on the Department's determination. Therefore, dismissal of the application was issued.

TA-W-37,664 and NAFTA-3911; Hutchinson Technology, Inc., Eau Claire, Wisconsin (August 3, 2000)

Signed at Washington, DC this 25th day of August, 2000.
Grant D. Beale,
Program Manager, Division of Trade Adjustment Assistance.

[FR Doc. 00-22762 Filed 9-5-00; 8:45 am]

BILLING CODE 4510-30-M